DEPARTMENT OF JUSTICE

National Institute of Justice

[OJP(NIJ)-1264]

National Institute of Justice Announcement of the Ninth Meeting of the National Commission on the Future of DNA Evidence

AGENCY: Office of Justice Programs, National Institute of Justice, Justice.

ACTION: Notice of meeting.

SUMMARY: Announcement of the ninth meeting of the National Commission on the Future of DNA Evidence.

DATES: The ninth meeting of the National Commission on the Future of DNA Evidence will take place on Sunday, April 9, 2000 from 1:00 p.m. to 5:00 p.m.,CDT, and on Monday, April 10, 2000 from 9:00 a.m. to 5:00 p.m., CDT.

ADDRESSES: The meeting will take place at the Regal Knickerbocker Hotel, 163 East Walton Place, Chicago, Illinois, 60611. Phone: (312) 751-9205.

FOR FURTHER INFORMATION CONTACT: Christopher H. Asplen, AUSA, Executive Director. Phone: (202) 616-8123. [This is not a toll-free number].

SUPPLEMENTARY INFORMATION:

Authority

This action is authorized under the Omnibus Crime Control and Safe Streets Act of 1968, Sections 201-03, as amended, 42 U.S.C. 3721-23 (1994).

Background

The National Commission on the Future of DNA Evidence, established pursuant to Section 3(2)A of the Federal Advisory Committee Act (FACA), 5 U.S.C. App. 2, will meet to carry out its advisory functions under Sections 201-202 of the Omnibus Crime Control and Safe Streets Act of 1968, as amended. This meeting will be open to the public.

The purpose of the National Commission on the Future of DNA Evidence is to provide the Attorney General with recommendations on the use of current and future DNA methods, applications and technologies in the operation of the criminal justice system, from the crime scene to the courtroom. Over the course of its Charter, the Commission will review critical policy issues regarding DNA evidence and provide recommended courses of action to improve its use as a tool of investigation and adjudication in criminal cases.

The Commission will address issues in five specific areas: (1) The use of DNA in postconviction relief cases, (2) legal concerns including Daubert challenges and the scope of discovery in DNA cases, (3) criteria for training and technical assistance for criminal justice professionals involved in the identification, collection and preservation of DNA evidence at the crime scene, (4) essential laboratory capabilities in the face of emerging technologies, and (5) the impact of future technological developments in the use of DNA in the criminal justice system. Each topic will be the focus of the in-depth analysis by separate working groups comprised of prominent professionals who will report back to the Commission.

Dated: March 6, 2000.
Jeremy Travis,
Director, National Institute of Justice.

[FR Doc. 00-5893 Filed 3-9-00; 8:45 am]

BILLING CODE 4410-18-P